DEPARTMENT OF ENERGY

Federal Energy Regulatory Commission

[Docket No. PL10-4-000]

Enforcement of Statutes, Orders, Rules and Regulations; Second Notice of Workshops on Penalty Guidelines

March 30, 2010.

As noticed in the March 24, 2010, “Notice of Workshops on Penalty Guidelines,” the staff of the Federal Energy Regulatory Commission (Commission) will hold three workshops to provide a forum for interested participants to ask questions on the interpretation and application of the Policy Statement on Penalty Guidelines, which the Commission recently issued on March 18, 2010.¹ Staff will hold the first workshop on April 7, 2010, from 9:30 a.m. to 12 p.m. Eastern Daylight Time, in the Commission Meeting Room (2C) at the Commission's Washington, DC headquarters, 888 First Street, NE. To accommodate participants outside of Washington, DC, this workshop will be Webcast, but will not be transcribed. To access this free Webcast, anyone with Internet access can go to Calendar of Events on the FERC Web site which contains a link to the Webcast. For questions on the Webcast call 703-993-3100.

¹ Enforcement of Statutes, Orders, Rules, and Regulations, 130 FERC ¶ 61,220 (2010).

All interested parties are invited to all three of the workshops; there is no registration list or registration fee to attend.

The purpose of this second notice is to provide the times and locations for staff's subsequent workshops in Houston, Texas and San Francisco, California. Staff will hold the Houston workshop on April 14, 2010, from 9:30 a.m. to 12 p.m. Central Daylight Time, at the Houston Airport Marriott at George Bush Intercontinental, 18700 John F. Kennedy Boulevard, Houston, Texas 77032. Staff will hold the San Francisco workshop on April 15, 2010, from 9:30 a.m. to 12 p.m. Pacific Daylight Time, at the Westin San Francisco Airport, 1 Old Bayshore Highway, Millbrae, California 94030. The Houston and San Francisco workshops will not be webcast.

As indicated, the purpose of the workshops will be to have staff discuss how the Penalty Guidelines will be applied and to answer questions about the Penalty Guidelines. In that regard, questions are being solicited from the public in advance of the workshops. Please submit questions on the Penalty Guidelines to Jeremy Medovoy, Attorney-Advisor, Office of Enforcement, Division of Investigations, by e-mail at Jeremy.Medovoy@ferc.gov. Workshop participants will also have an opportunity to ask questions at the workshops, but due to time limitations, questions in advance are encouraged.

Questions about the workshops may be directed to Jeremy Medovoy by e-mail at Jeremy.Medovoy@ferc.gov or by telephone at 202-502-6768.

Nathaniel J. Davis, Sr.,
Deputy Secretary.

[FR Doc. 2010-7821 Filed 4-6-10; 8:45 am]

BILLING CODE 6717-01-P